DEPARTMENT OF HEALTH AND HUMAN SERVICES

Centers for Disease Control and Prevention

Task Force on Community Preventive Services

In accordance with section 10(a)(2) of the Federal Advisory Committee Act (Pub. L. 92-463), the Centers for Disease Control and Prevention (CDC) announces the following meeting:

Name: Task Force on Community Preventive Services.

Times and Dates: 8 a.m.-6 p.m. EST, February 27, 2008. 8 a.m.-1 p.m EST, February 28, 2008.

Place: Centers for Disease Control and Prevention, 2500 Century Parkway, Atlanta, GA 30345.

Status: Open to the public, limited only by the space available.

Purpose: The mission of the Task Force is to develop and publish the Guide to Community Preventive Services (Community Guide), which consists of systematic reviews of the best available scientific evidence and associated recommendations regarding what works in the delivery of essential public health services.

Topics include: Reducing depression in older adults; increasing cancer screening; reducing sexual risk behavior (among adolescents); controlling obesity; and updating the Community Guide's vaccine-preventable diseases review.

Agenda items are subject to change as priorities dictate.

Persons interested in reserving a space for this meeting should call Tony Pearson-Clarke at 404. 498.0972 by close of business on February 19, 2008.

Contact person for additional information: Tony Pearson-Clarke, Community Guide Branch, Coordinating Center for Health Information and Service, National Center for Health Marking, Division of Health Communication and Marketing, Centers for Disease Control and Prevention, 1600 Clifton Road, M/S E-69, Atlanta, GA 30333, telephone: 404.498.0972.

Dated: January 31, 2008.
James D. Seligman,
Chief Information Officer, Centers for Disease Control and Prevention.

[FR Doc. E8-2548 Filed 2-11-08; 8:45 am]

BILLING CODE 4163-18-P